DEPARTMENT OF ENERGY

Federal Energy Regulatory Commission

[Docket No. IC24-27-000]

Commission Information Collection Activities (FERC-516G); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection FERC-516G, Electric Rates Schedules and Tariff Filings. There are no changes to the information collection.

DATES: Comments on the collection of information are due October 8, 2024.

ADDRESSES: You may submit comments (identified by Docket No. IC24-27-000) by any of the following methods:

Electronic filing through http://www.ferc.gov, is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (including courier) delivery: Deliver to: Federal Energy Regulatory Commission, 12225 Wilkins Avenue, Rockville, MD 20852.

Instructions: All submissions must be formatted and filed in accordance with submission guidelines at: http://www.ferc.gov. For user assistance, contact FERC Online Support by email at: ferconlinesupport@ferc.gov, or by phone at: (866) 208-3676 (toll-free).

Docket: Users interested in receiving automatic notification of activity in this docket or in viewing/downloading comments and issuances in this docket may do so at: http://www.ferc.gov.

FOR FURTHER INFORMATION CONTACT: Jean Sonneman may be reached by email at DataClearance@FERC.gov, telephone at (202) 502-6362.

SUPPLEMENTARY INFORMATION:

Title: FERC-516G, Electric Rates Schedules and Tariff Filings.

OMB Control No.: 1902-0295.

Type of Request: Three-year renewal of FERC-516G.

Abstract: In accordance with section 206 of the Federal Power Act (FPA) ¹ and 18 CFR 35.28(g)(10), each Independent System Operator (ISO) and Regional Transmission Organization (RTO) must report:

¹ 16 U.S.C. 824e.

(1) On a monthly basis, total uplift payments for each transmission zone, broken out by day and uplift category;

(2) On a monthly basis, total uplift payments for each resource; and

(3) On a monthly basis, each operator-initiated commitment, the size of the commitment, transmission zone, commitment reason, and commitment start time.

The Commission has determined that these information collection activities provide for transparency that is necessary for just and reasonable rates.

Type of Respondents: ISOs and RTOs.

Estimate of Annual Burden: ² The estimated burden and cost ³ are as follows:

² Burden is defined as the total time, effort, or financial resources expended by persons to generate, maintain, retain, or disclose or provide information to or for a Federal agency. For further explanation of what is included in the information collection burden, refer to 5 CFR 1320.3.

³ The Commission staff estimates that the average respondent for this collection is similarly situated to the Commission, in terms of salary plus benefits. Based on FERC's 2024 annual average of $207,786 (for salary plus benefits), the average hourly cost is $100/hour.

FERC-516G Annual Burden Estimates in Docket No. IC24-27-000
A. Type of response | B. Number of respondents | C. Annual number of responses per respondent | D. Total number of responses | E. Average burden hours & cost per response | F. Total annual burden hours & cost | G. Cost per respondent
|  |  | (Column B × Column C) |  | (Column D × Column E) | (Column F ÷ Column B)
Preparing and Posting of 3 reports on company website each month | 6 | 12 | 72 | 3 hrs.; $300 | 216 hrs.; $21,600 | $ 3,600

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: August 5, 2024.
Debbie-Anne A. Reese,
Acting Secretary.

[FR Doc. 2024-17745 Filed 8-8-24; 8:45 am]

BILLING CODE 6717-01-P